DEPARTMENT OF THE INTERIOR

National Park Service

Notice of Boundary Revision, Great Smoky Mountains National Park, NC

SUMMARY: Notice is given that the boundary of the Great Smoky Mountains National Park has been revised to encompass additional lands. The boundary has been revised for the preservation, protection, interpretation and management of the area.

SUPPLEMENTARY INFORMATION: The boundary of the Great Smoky Mountains National Park has been revised to encompass lands as depicted on drawing 133/92002, Sheet 13 of 18, of the Great Smoky Mountains National Park as prepared by the National Park Service. The map is on file and available for inspection in the Land Resources Program Center for the Southeast Region and in the Department of the Interior, Offices of the National Park Service.

This boundary revision is authorized pursuant to Public Law 69-268 (44 Stat. 616) dated May 22, 1926, which authorized the establishment of the Great Smoky Mountains National Park, and Sections 7(c)(i) and 7(c)(ii) of the Land and Water Conservation Fund Act, as amended by the Act of June 10, 1977 (P.L. 95-42, 91 Stat. 210), and the Act of November 12, 1996 (P.L. 104-333, 110 Stat. 4194), that further authorized minor revisions in the boundaries whenever the Secretary of the Interior determines that to do so will contribute to and is necessary for the preservation, protection, interpretation or management of an area of the national park system.

ADDRESSES: The map depicting the revised boundary for the Great Smoky Mountains National park is available for inspection at the following locations:

Land Resources Program Center, Southeast Regional Office, National Park Service, 100 Alabama Street, SW., Atlanta, GA 30303

National Park Service, Land Resources Division, Department of the Interior, 1849 C Street, NW., Washington, DC 20240-0001

Dated: December 22, 1999.
Danielle Brown,
Regional Director, Southeast Region, National Park Service.

[FR Doc. 00-10313 Filed 4-25-00; 8:45 am]

BILLING CODE 4310-70-M